DEPARTMENT OF ENERGY

Western Area Power Administration

Interconnection of the Hualapai Valley Solar Project, Mohave County, AZ

AGENCY: Western Area Power Administration, DOE.

ACTION: Notice of Intent to Prepare an Environmental Impact Statement and Conduct Scoping Meetings; Notice of Floodplain and Wetlands Involvement.

SUMMARY: The Western Area Power Administration (Western), an agency of the DOE, intends to prepare an environmental impact statement (EIS) on the proposed interconnection of the Hualapai Valley Solar Project (Project) in Mohave County, near Kingman, Arizona. Hualapai Valley Solar, LLC (HVS) has applied to Western to interconnect the proposed Project to Western's power transmission system. Western is issuing this notice to inform the public and interested parties about Western's intent to prepare an EIS, conduct a public scoping process, and invite the public to comment on the scope, proposed action, alternatives, and other issues to be addressed in the EIS.

This EIS will address Western's Federal action of interconnecting the proposed Project to Western's transmission system and making any necessary modification to Western facilities to accommodate the interconnection. The EIS will also review the potential environmental impacts of HVS constructing, operating, and maintaining a 340 megawatt (MW) solar-powered generating facility, consisting of a solar field, power block, thermal energy storage system, substation site, transmission line, temporary laydown areas, and other ancillary facilities.

DATES: The public scoping period begins with the publication of this notice and closes on October 23, 2009. A public scoping meeting will be held on October 1, 2009.

ADDRESSES: A public scoping meeting will be held at the Kingman High School Auditorium, 4182 Bank Street, Kingman, AZ 86409. Written comments on the scope of the EIS should be addressed to Ms. Mary Barger, National Environmental Policy Act (NEPA) Document Manager, Western Area Power Administration, Desert Southwest Region, P.O. Box 6457, 615 S. 43rd Avenue, Phoenix, AZ 85005 or HVSolarEIS@wapa.gov.

FOR FURTHER INFORMATION CONTACT: Ms. Mary Barger, NEPA Document Manager, Western Area Power Administration, Desert Southwest Region, P.O. Box 6457, 615 S. 43rd Avenue, Phoenix, AZ 85005, telephone (602) 605-2524, fax (602) 605-2630, or e-mail HVSolarEIS@wapa.gov. For general information on DOE's NEPA review procedures or status of a NEPA review, contact Ms. Carol M. Borgstrom, Director of NEPA Policy and Compliance, GC-20, U.S. Department of Energy, 1000 Independence Avenue, SW., Washington, DC 20585, telephone (202) 586-4600 or (800) 472-2756.

SUPPLEMENTARY INFORMATION: Western, an agency within DOE, markets Federal hydroelectric power to preference customers, as specified by law. These customers include municipalities, cooperatives, irrigation districts, Federal and State agencies, and Native American tribes. Western's service territory covers 15 western states, including Arizona. Western owns and operates more than 17,000 miles of high-voltage transmission lines.

HVS, a wholly owned subsidiary of Mohave Sun Power LLC, has applied to Western to interconnect the proposed Project to Western's transmission system. The interconnection would be facilitated with a new substation, built, owned, and operated by Western, located at one of two alternative locations: (1) The Mead-Phoenix Transmission Line; or (2) the Liberty-Mead Transmission Line. The Mead-Phoenix Transmission Line is owned by 14 participants, including Western. The Liberty-Mead Transmission Line is owned by Western. Western offers capacity to deliver electricity on its transmission system, when such capacity is available, under Western's Open Access Transmission Service Tariff.

HVS also has applied to the U.S. Department of the Interior, Bureau of Land Management (BLM) for rights-of-way to build, operate, and maintain a portion of the proposed transmission line and access roads on public lands managed by the BLM, Kingman Field Office. In order for Western to build interconnection facilities on BLM lands, Western must apply to the BLM to amend its right-of-way.

Additionally, the proposed Project is subject to State and local approvals prior to Project construction. These approvals include the following: A Certificate of Environmental Compatibility from the Arizona Corporate Commission, an Air Quality Permit for the Arizona Department of Environmental Quality, an Aquifer Protection Permit from the Arizona Department of Environmental Quality, and a General Plan amendment from Mohave County.

Project Description and Alternatives

HVS proposes to construct a 340-MW, solar-powered electrical generation facility in Mohave County, Arizona. The solar power facility would occupy about 4,160 acres. The proposed Project would be located about 27 miles north of Kingman, and 20 miles east of U.S. Highway 93. It would be constructed on BLM and private lands within the Semidesert Grassland vegetative community of the Mohave Desert.

The proposed Project would use concentrating solar power trough technology to capture the sun's heat to make steam, which would power a traditional steam turbine generator. The proposed Project would require about 2,400 acre feet of water per year. HVS expects the primary source of water would be the aquifer under the project site. HVS is also exploring an alternative water source from the new Kingman Hilltop wastewater treatment plant, which could supply up to about 1,800 acre feet of effluent and would require about 25-35 miles of underground water pipeline, depending on routing. The solar power facility would contain the power block, solar fields, thermal energy storage system, administrative, control, warehouse, and workshop buildings, storm water system, water supply and treatment systems, a wastewater system, and other supporting facilities.

Other Project components would include an electrical substation, a transmission line, and two access roads. To support delivery of the power generated by the proposed Project, HVS proposes to build a new 500-kilovolt (kV) transmission line to a new substation. The new substation would be built, owned, and operated by Western. Two locations are being considered for the substation. The applicant's preferred substation location would be about 2 miles from the solar field, adjacent to the 500-kV Mead-Phoenix Transmission Line. The alternative location is about 6 miles further north at the intersection of the Mead-Phoenix, Liberty-Mead, and Moenkopi-Eldorado transmission lines, with interconnection to the Liberty-Mead 345-kV Transmission Line. The substation would occupy about 10 to 12 acres. The length of the transmission line to the preferred substation location at the Mead-Phoenix Transmission Line location would be about 4.1 miles. The length of the transmission line to the alternative substation location at the Liberty-Mead Transmission Line location would be about 9.6 miles. The transmission line right-of-way would be 200 feet wide.

Two access roads would be required for the proposed Project. One of the access roads would originate from Stockton Hill Road and extend approximately 3.7 miles east to the solar power facility. The other road would originate from Antares Road and extend approximately 2 miles to the preferred substation or 1 mile to the alternative substation.

Two off-site temporary laydown areas would be used during the construction phase of the Project. The laydown areas would total about 640 acres and would be used for storage and assembly of proposed Project components.

Agencies Proposed Actions and Alternatives

Western's proposed actions are to build a new substation and interconnect the proposed Project to Western's transmission system at one of the substation locations described above. BLM's proposed actions are to grant rights-of-way to HVS for the transmission line and associated access roads and any other Project components crossing Federal lands and to amend one of Western's existing rights-of-way to build a substation at one of the substation locations described above.

Western and BLM will also consider the no-action alternative in the EIS. Under the no-action alternative, Western would neither build a new substation nor interconnect the proposed Project and/or the BLM would not grant or amend rights-of-way.

Agency Responsibilities

Because interconnection of the proposed Project would incorporate a major new generation resource into Western's power transmission system, Western has determined that an EIS is required under DOE NEPA implementing procedures, 10 CFR part 1021, Subpart D, Appendix D, class of action D6.¹ Western would be the lead Federal agency for preparing the EIS, as defined at 40 CFR 1501.5. The proposed Project includes construction of facilities on lands managed by the BLM; therefore, the BLM has agreed to be a cooperating agency for preparation of the EIS. Western invites other Federal, State, local, and tribal agencies with jurisdiction by law or special expertise with respect to environmental issues to be cooperating agencies on the EIS, as defined at 40 CFR 1501.6. Such agencies may also make a request to Western to be a cooperating agency by contacting Ms. Barger at the address listed above in the ADDRESSES section.

¹ On October 4, 1999, DOE's Assistant Secretary for Environmental, Safety and Health delegated to Western's Administrator the authority to approve EISs for integrating transmission facilities with Western's transmission grid.

The proposed Project may affect floodplains or wetlands. This notice also serves as notice of proposed floodplain or wetland action, in accordance with 10 CFR part 1022.

Environmental Issues

This notice is to inform agencies and the public of Western's intent to prepare an EIS and solicit comments and suggestions for consideration in the EIS. To help the public frame its comments, the following list contains potential environmental issues preliminarily identified for analysis in the EIS:

1. Impacts on protected, threatened, endangered, or sensitive species of animals or plants;

2. impacts on migratory birds;

3. impacts from noxious weeds, invasive and non-native species;

4. impacts on recreation and transportation;

5. impacts on land use, wilderness, farmlands, and Areas of Critical Environmental Concern;

6. impacts on cultural or historic resources and tribal values;

7. impacts on human health and safety;

8. impacts on air, soil, and water resources (including air quality and surface water impacts);

9. visual impacts;

10. socio-economic impacts and disproportionately high and adverse impacts to minority and low-income populations.

This list is not intended to be all-inclusive or to imply any predetermination of impacts. Western invites interested parties to suggest specific issues within these general categories, or other issues not included above, to be considered in the EIS.

Public Participation

The EIS process includes a public scoping period; public review and hearings on the draft EIS; publication of a final EIS; and publication of a record of decision (ROD). The public scoping period begins with publication of this notice and closes October 23, 2009. At the conclusion of the NEPA process, Western and the BLM would each prepare a ROD. Persons interested in receiving future notices, Project information, copies of the EIS, and other information on the NEPA review process should contact Ms. Barger at the address listed above in the ADDRESSES section.

Western will hold a public scoping meeting on October 1, 2009, at the Kingman High School Auditorium, 4182 Bank Street, Kingman, AZ 86409. The meeting is scheduled for 6-8 p.m. with a short presentation followed by an open-house meeting, during which attendees are invited to speak one-on-one with agency and Project representatives. Attendees are welcome to come and go at their convenience throughout the meeting.

The purpose of the scoping meeting is to provide information about the proposed Project, review Project maps, answer questions, and take written comments from interested parties. All meeting locations are handicapped-accessible. Anyone needing special accommodations should contact Ms. Barger to make arrangements.

The public will have the opportunity to provide written comments at the public scoping meetings. Written comments may also be sent to Ms. Barger by fax, U.S. Postal Service mail, or e-mail. To help define the scope of the EIS, comments should be received by Western no later than October 23, 2009. Before including your address, phone number, e-mail address, or other personal identifying information in your comment, be advised that your entire comment—including your personal identifying information—may be made publicly available at any time. While you can ask us in your comment to withhold from public review your personal identifying information, we cannot guarantee that we will be able to do so.

Dated: September 9, 2009.
Timothy J. Meeks,
Administrator.

[FR Doc. E9-22201 Filed 9-14-09; 8:45 am]

BILLING CODE 6450-01-P